NUCLEAR REGULATORY COMMISSION

[Docket Nos. 52-025 and 52-026; NRC-2008-0252]

Southern Nuclear Operating Company Vogtle Electric Generating Plant, Units 3 and 4 Combined License Application; Notice of Intent To Prepare a Supplemental Environmental Impact Statement

Southern Nuclear Operating Company (Southern) has submitted an application for a combined license (COL) for its Vogtle Electric Generating Plant site to build Units 3 and 4, located in Burke County, Georgia, approximately 26 miles southeast of Augusta. The application for the COL was submitted by letter dated March 31, 2008, pursuant to the requirements of Title 10, part 52. A notice of receipt and availability of the application, which included the environmental report (ER), was published in the Federal Register on May 5, 2008 (73 FR 24616). A notice of acceptance for docketing of the application for the COL was published in the Federal Register on June 11, 2008 (73 FR 33118).

On August 26, 2009, the NRC authorized the Vogtle Electric Generating Plant Early Site Permit (ESP) and Limited Work Authorization. An ESP is a Commission approval of a site as suitable for construction and operation of one or more new nuclear units. The NRC intends to prepare a supplement to the Final Environmental Impact Statement (FEIS) for the Early Site Permit (ESP) at the Vogtle Electric Generating Plant, NUREG-1872, as required by 10 CFR 51.92 for a COL referencing an ESP. The supplemental environmental impact statement (SEIS) for the COL will be prepared in the same manner as the FEIS for the ESP except that the NRC staff will not conduct a formal scoping process. This notice advises the public that the SEIS will, however, analyze any new and potentially significant information since the ESP FEIS was published on August 21, 2008, in the Federal Register. This notice is being published in accordance with the National Environmental Policy Act (NEPA) and NRC regulations found in 10 CFR part 51.

In addition, as outlined in 36 CFR 800.8(c), “Use of the NEPA process for section 106 purposes,” the NRC staff plans to coordinate compliance with section 106 of the National Historic Preservation Act (NHPA) with steps taken to meet the requirements of NEPA. Pursuant to 36 CFR 800.8(c), the NRC staff intends to use the process and documentation for the preparation of the SEIS on the proposed action to comply with section 106 of the NHPA in lieu of the procedures set forth in 36 CFR 800.3 through 800.6.

In accordance with 10 CFR 51.45 and 10 CFR 51.50, Southern submitted the ER as part of the application. The ER was prepared pursuant to 10 CFR Parts 51 and 52 and is available for public inspection at the NRC Public Document Room (PDR), located at One White Flint North, 11555 Rockville Pike (first floor), Rockville, Maryland, or from the Publicly Available Records component of the NRC's Agencywide Documents Access and Management System (ADAMS). ADAMS is accessible at http://www.nrc.gov/reading-rm/adams.html, which provides access through the NRC's Electronic Reading Room (ERR) link. The accession number in ADAMS for the ER is ML081050181. Persons who do not have access to ADAMS or who encounter problems in accessing the documents located in ADAMS should contact the NRC's PDR Reference staff at 1-800-397-4209 or 301-415-4737, or by sending an e-mail to pdr.resource@nrc.gov.

The staff will prepare and issue for comment the draft SEIS, which will be the subject of separate notices and a separate public meeting. A copy of the draft SEIS will be available for public inspection at the above-mentioned address. The application may also be viewed on the Internet at http://www.nrc.gov/reactors/new-licensing/col/vogtle.html.

In addition, the Burke County Library in Waynesboro, Georgia has agreed to make the ER available for public inspection.

The following key reference documents related to the COL application and the NRC staff's review process are available through the NRC's Web site at http://www.nrc.gov:

a. 10 CFR part 51, Environmental Protection Regulations for Domestic Licensing and Related Regulatory Functions;

b. 10 CFR part 52, Licenses, Certifications, and Approvals for Nuclear Power Plants;

c. 10 CFR part 100, Reactor Site Criteria;

d. NUREG-1555, Standard Review Plans for Environmental Reviews for Nuclear Power Plants;

e. NUREG/BR-0298, Brochure on Nuclear Power Plant Licensing Process;

f. Fact Sheet on Nuclear Power Plant Licensing Process;

g. Regulatory Guide 4.2, Preparation of Environmental Reports for Nuclear Power Stations;

h. Regulatory Guide 1.206, Combined License Applications for Nuclear Power Plants.

The regulations, NUREG-series documents, regulatory guides, and fact sheets can be found under Document Collections in the Electronic Reading Room on the NRC Web page. After receipt and consideration of the comments on the DSEIS for the COL, the NRC staff will prepare a final SEIS, which will also be available for public inspection.

Information about the proposed SEIS may be obtained from Ms. Mallecia Hood, Environmental Project Manager, 301-415-0673.

Dated at Rockville, Maryland, this 18th day of September 2009.
For the Nuclear Regulatory Commission.
Nilesh Chokshi,
Deputy Director, Division of Site and Environmental Reviews, Office of New Reactors.

[FR Doc. E9-23318 Filed 9-25-09; 8:45 am]

BILLING CODE 7590-01-P